OFFICE OF GOVERNMENT ETHICS

Agency Information Collection Activities; Submission for OMB Review; Proposed Collection; Comment Request for a Modified OGE Form 201, Request To Inspect or Receive Copies of Executive Branch Personnel Public Financial Disclosure Reports or Other Covered Records

AGENCY: Office of Government Ethics (OGE).

ACTION: Notice of request for agency and public comments.

SUMMARY: After publication of this second round notice, the U.S. Office of Government Ethics (OGE) plans to submit a proposed modified OGE Form 201, Request to Inspect or Receive Copies of Executive Branch Personnel Public Financial Disclosure Reports or Other Covered Records, to the Office of Management and Budget (OMB) for review and approval of a three-year extension under the Paperwork Reduction Act of 1995. The OGE Form 201 is used by persons requesting access to executive branch public financial disclosure reports and other covered records.

DATES: Written comments by the public and agencies on this proposed extension are invited and must be received by March 9, 2020.

ADDRESSES: You may submit comments on this paperwork notice to the Office of Management and Budget, Attn: Desk Officer for OGE, via fax at 202-395-6974 or email at OIRA_Submission@omb.eop.gov. (Include reference to “OGE Form 201 paperwork comment” in the subject line of the message).

FOR FURTHER INFORMATION CONTACT: Grant Anderson at the U.S. Office of Government Ethics; telephone: 202-482-9318; TTY: 800-877-8339; FAX: 202-482-9237; Email: ganderso@oge.gov. An electronic copy of the OGE Form 201 version used to manually submit access requests to OGE or other executive branch agencies by mail or FAX is available in the Forms Library section of OGE's website at http://www.oge.gov. A paper copy may also be obtained, without charge, by contacting Mr. Anderson. An automated version of the OGE Form 201, also available on OGE's website, enables the requester to electronically fill out, submit and receive access to copies of the public financial disclosure reports certified by the U.S. Office of Government Ethics.

SUPPLEMENTARY INFORMATION:

Title: Request to Inspect or Receive Copies of Executive Branch Personnel Public Financial Disclosure Reports or Other Covered Records.

Agency Form Number: OGE Form 201.

OMB Control Number: 3209-0002.

Type of Information Collection: Extension with modifications of a currently approved collection.

Type of Review Request: Regular.

Respondents: Individuals requesting access to executive branch public financial disclosure reports and other covered records.

Estimated Annual Number of Respondents: 7,600.

Estimated Time per Response: 10 minutes.

Estimated Total Annual Burden: 1,300 hours.

Abstract: The OGE Form 201 collects information from, and provides certain information to, persons who seek access to OGE Form 278 Public Financial Disclosure Reports, including OGE Form 278-T Periodic Transaction Reports, and other covered records. The form reflects the requirements of the Ethics in Government Act, subsequent amendments pursuant to the Representative Louise McIntosh Slaughter Stop Trading on Congressional Knowledge Act, and OGE's implementing regulations that must be met by a person before access can be granted. These requirements include the address of the requester, as well as any other person on whose behalf a record is sought, and acknowledgement that the requester is aware of the prohibited uses of executive branch public disclosure financial reports. See 5 U.S.C. appendix 105(b) and (c) and 402 (b)(1) and 5 CFR 2634.603(c) and (f). Executive branch departments and agencies are encouraged to use the OGE Form 201 for individuals seeking access to public financial disclosure reports and other covered documents. OGE permits departments and agencies to use or develop their own forms as long as the forms collect and provide all of the required information.

OGE recently revised its OGE/GOVT-1, Executive Branch Personnel Public Financial Disclosure Reports and Other Name-Retrieved Ethics Program Records system of records. The revisions were published in the Federal Register on September 9, 2019, and went into effect on November 8, 2019. The revisions included several new and modified routine uses. The information collected on the OGE Form 201 is maintained in the OGE/GOVT-1 Governmentwide system of records, and the form contains a Privacy Act statement referencing OGE/GOVT-1 as required by section (e)(3) of the Privacy Act. Accordingly, OGE proposes to update the Privacy Act statement in accordance with changes to the OGE/GOVT-1 system of records. This change will have no material effect on the burden to filers.

On January 15, 2020, OGE published a final rule making inflationary adjustments to the Ethics in Government Act civil monetary penalties in accordance with the Federal Civil Penalties Inflation Adjustment Act Improvements Act of 2015. Pursuant to these changes, the penalty for misuse of public reports is now $20,489. Accordingly, OGE proposes to update the penalty amount stated on the Form 201, in the paragraph above the applicant's signature. This change will have no material effect on the burden to filers.

On November 25, 2019, OGE published a first round notice of its intent to request approval for the modified OGE Form 201, Request to Inspect or Receive Copies of Executive Branch Personnel Public Financial Disclosure Reports or Other Covered Records. See 84 FR 64895. OGE received no responses to that notice.

Request for Comments: Agency and public comment is again invited specifically on the need for and practical utility of this information collection, the accuracy of OGE's burden estimate, the enhancement of quality, utility, and clarity of the information collected, and the minimization of burden (including the use of information technology). The comments will become a matter of public record.

Approved: February 3, 2020.
Emory Rounds,
Director, U.S. Office of Government Ethics.

[FR Doc. 2020-02396 Filed 2-6-20; 8:45 am]

BILLING CODE 6345-03-P